DEPARTMENT OF AGRICULTURE

Animal and Plant Health Inspection Service

[Docket No. APHIS-2008-0049]

Notice of Request for Revision and Extension of Approval of an Information Collection; National Animal Identification System

AGENCY: Animal and Plant Health Inspection Service, USDA.

ACTION: Revision and extension of approval of an information collection; comment request.

SUMMARY: In accordance with the Paperwork Reduction Act of 1995, this notice announces the Animal and Plant Health Inspection Service's intention to request a revision and extension of approval of an information collection associated with the National Animal Identification System.

DATES: We will consider all comments that we receive on or before August 5, 2008.

ADDRESSES: You may submit comments by either of the following methods:

• Federal eRulemaking Portal: Go to http://www.regulations.gov/fdmspublic/component/main?main=DocketDetail&d=APHIS-2008-0049 to submit or view comments and to view supporting and related materials available electronically.

• Postal Mail/Commercial Delivery: Please send two copies of your comment to Docket No. APHIS-2008-0049, Regulatory Analysis and Development, PPD, APHIS, Station 3A-03.8, 4700 River Road, Unit 118, Riverdale, MD 20737-1238. Please state that your comment refers to Docket No. APHIS-2008-0049.

Reading Room: You may read any comments that we receive on this docket in our reading room. The reading room is located in room 1141 of the USDA South Building, 14th Street and Independence Avenue, SW., Washington, DC. Normal reading room hours are 8 a.m. to 4:30 p.m., Monday through Friday, except Federal holidays. To be sure someone is there to help you, please call (202) 690-2817 before coming.

Other Information: Additional information about APHIS and its programs is available on the Internet at http://www.aphis.usda.gov.

FOR FURTHER INFORMATION CONTACT: For information on the National Animal Identification System, contact Mr. Vince Chapman, National Animal Identification System Staff, Surveillance and Identification Programs, VS, APHIS, 4700 River Road, Unit 200, Riverdale, MD 20737; (301) 734-0739. For copies of more detailed information on the information collection, contact Mrs. Celeste Sickles, APHIS* Information Collection Coordinator, at (301) 851-2908.

SUPPLEMENTARY INFORMATION: Title: National Animal Identification System.

OMB Number: 0579-0259.

Type of Request: Revision and extension of approval of an information collection.

Abstract: As part of its ongoing efforts to safeguard U.S. animal health, the U.S. Department of Agriculture (USDA) initiated the implementation of the National Animal Identification System (NAIS) in 2004. NAIS is a cooperative State-Federal-industry partnership to standardize and expand animal identification programs and practices to all livestock species and poultry. NAIS is being developed through the integration of three components—premises registration, animal identification, and animal tracing. The goal of NAIS, for which participation at the Federal level is voluntary, is to have the information necessary to trace all animals associated with an incident of an animal disease within 48 hours in order to limit disease spread and thereby reduce the impact of diseases on America's agricultural producers.

The NAIS program involves a number of approved collection and recordkeeping activities, including animal identification; premises registration; group/lot movement records; cooperative agreements; accomplishment reports; applications, registrations, and agreements associated with the Animal Identification Number (AIN) Management System; and applications for evaluation of animal tracking databases. New activities under the NAIS program include applications, agreements, and updates submitted by AIN manufacturers, managers, and resellers; cooperator quarterly accomplishment reports; and applications for cooperative agreements to support NAIS outreach, education, and premises registration activities.

We are asking the Office of Management and Budget (OMB) to approve our use of these information collection activities for 3 years.

This notice includes a description of the information collection requirements currently approved by the Office of Management and Budget (OMB) for the NAIS program under numbers 0579-0259, 0579-0283, and 0579-0288. After OMB approves and combines the burden for the three collections under a single collection (number 0579-0259), the Department will retire numbers 0579-0283 and 0579-0288. The new activities described above will also be combined under OMB collection 0579-0259.

The purpose of this notice is to solicit comments from the public (as well as affected agencies) concerning our information collection. These comments will help us:

(1) Evaluate whether the collection of information is necessary for the proper performance of the functions of the agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.7644215 hours per response.

Respondents: State and Tribal animal health authorities; owners/operators of feedlots, markets, and slaughter plants; producers; and nonproducer participants such as accredited veterinarians, AIN device managers/resellers (individuals or firms responsible for distributing AIN devices to producers), AIN device manufacturers (companies that manufacture animal identification devices approved for use in the NAIS), third-party service providers (companies that provide herd management, dairy herd improvement, genetic evaluation, and other services to producers), and diagnostic laboratories and livestock buyers/dealers who submit data to the national database.

Estimated annual number of respondents: 500,472.

Estimated annual number of responses per respondent: 7.4036789.

Estimated annual number of responses: 3,705,334.

Estimated total annual burden on respondents: 2,832,437 hours. (Due to averaging, the total annual burden hours may not equal the product of the annual number of responses multiplied by the reporting burden per response.)

All responses to this notice will be summarized and included in the request for OMB approval. All comments will also become a matter of public record.

Done in Washington, DC, this 2nd day of June 2008.
Kevin Shea,
Acting Administrator, Animal and Plant Health Inspection Service.

[FR Doc. E8-12731 Filed 6-5-08; 8:45 am]

BILLING CODE 3410-34-P